DEPARTMENT OF COMMERCE

International Trade Administration

[A-552-801]

Certain Frozen Fish Fillets From the Socialist Republic of Vietnam: Initiation of Antidumping Duty New Shipper Review

AGENCY: Import Administration, International Trade Administration, Department of Commerce.

DATES: Effective Date: March 31, 2011.

SUMMARY: The Department of Commerce (“Department”) has determined that a request for a new shipper review (“NSR”) of the antidumping duty order on certain frozen fish fillets (“fish fillets”) from the Socialist Republic of Vietnam (“Vietnam”), received on February 28, 2011, meets the statutory and regulatory requirements for initiation. The period of review (“POR”) for this NSR is August 1, 2010, through January 31, 2011.

FOR FURTHER INFORMATION CONTACT: Ricardo Martinez Rivera, AD/CVD Operations, Office 9, Import Administration, International Trade Administration, U.S. Department of Commerce, 14th Street and Constitution Avenue, NW., Washington, DC 20230; telephone: 202-482-4532.

SUPPLEMENTARY INFORMATION:

Background

The notice announcing the antidumping duty order on fish fillets from Vietnam was published in the Federal Register on August 12, 2003. See Notice of Antidumping Duty Order: Certain Frozen Fish Fillets from the Socialist Republic of Vietnam, 68 FR 47909 (August 12, 2003). On February 28, 2011, pursuant to section 751(a)(2)(B)(i) of the Tariff Act of 1930, as amended (“Act”), the Department received a properly filed NSR request during the semi-annual anniversary month of the antidumping duty order from Thuan An Production Trading & Services Co., Ltd. (“Tafishco”). Tafishco certified that it is both the producer and exporter of the subject merchandise upon which the request was based.

Pursuant to section 751(a)(2)(B)(i)(I) of the Act and 19 CFR 351.214(b)(2)(i), Tafishco certified that it did not export subject merchandise to the United States during the period of investigation (“POI”). In addition, pursuant to section 751(a)(2)(B)(i)(II) of the Act and 19 CFR 351.214(b)(2)(iii)(A), Tafishco certified that, since the initiation of the investigation, it has never been affiliated with any Vietnamese exporter or producer who exported subject merchandise to the United States during the POI, including those respondents not individually examined during the POI. As required by 19 CFR 351.214(b)(2)(iii)(B), Tafishco also certified that its export activities were not controlled by the central government of Vietnam.

In addition to the certifications described above, pursuant to 19 CFR 351.214(b)(2)(iv)(A), (B) and (C), Tafishco submitted documentation establishing the following: (1) The date on which Tafishco first shipped subject merchandise for export to the United States; (2) the volume of its first shipment; and (3) the date of its first sale to an unaffiliated customer in the United States.

The Department conducted U.S. Customs and Border Protection (“CBP”) database queries in an attempt to confirm that Tafishco's shipments of subject merchandise had entered the United States for consumption and that liquidation of such entries had been properly suspended for antidumping duties. The Department also examined whether the CBP data confirmed that such entries were made during the NSR POR. The information we examined was consistent with that provided by Tafishco.

Initiation of New Shipper Review

Pursuant to section 751(a)(2)(B) of the Act and 19 CFR 351.214(d)(1), we find that Tafishco meets the threshold requirements for initiation of a NSR for the shipments of fish fillets from Vietnam produced and exported by Tafishco. See “Memorandum to the File from Ricardo Martinez Rivera, International Trade Compliance Analyst, Initiation of AD New Shipper Review: Certain Frozen Fish Fillets from the Socialist Republic of Vietnam (A-552-801),” dated concurrently with this notice.

The Department intends to issue the preliminary results of this NSR no later than 180 days from the date of initiation, and the final results no later than 270 days from the date of initiation. See section 751(a)(2)(B)(iv) of the Act.

It is the Department's usual practice, in cases involving non-market economy countries, to require that a company seeking to establish eligibility for an antidumping duty rate separate from the country-wide rate provide evidence of de jure and de facto absence of government control over the company's export activities. Accordingly, we will issue a questionnaire to Tafishco, which will include a section requesting information concerning Tafishco's export activities for separate rates purposes. The review will proceed if the response provides sufficient indication that Tafishco is not subject to either de jure or de facto government control with respect to its export of subject merchandise.

We will instruct U.S. Customs and Border Protection to allow, at the option of the importer, the posting, until the completion of the review, of a bond or security in lieu of a cash deposit for each entry of the subject merchandise from Tafishco in accordance with section 751(a)(2)(B)(iii) of the Act and 19 CFR 351.214(e). Because Tafishco certified that it produced and exported the subject merchandise, the sale of which is the basis for this new shipper review request, we will apply the bonding privilege to Tafishco only for subject merchandise which Tafishco both produced and exported.

To assist in its analysis of the bona fides of Tafishco's sales, upon initiation of this new shipper review, the Department will require Tafishco to submit on an ongoing basis complete transaction information concerning any sales of subject merchandise to the United States that were made subsequent to the POR.

Interested parties requiring access to proprietary information in this NSR should submit applications for disclosure under administrative protective order in accordance with 19 CFR 351.305 and 351.306. This initiation and notice are published in accordance with section 751(a)(2)(B) of the Act and 19 CFR 351.214 and 351.221(c)(1)(i).

Dated: March 24, 2011.
Gary Taverman,
Acting Deputy Assistant Secretary for Antidumping and Countervailing Duty Operations.

[FR Doc. 2011-7358 Filed 3-30-11; 8:45 am]

BILLING CODE 3510-DS-P